DEPARTMENT OF DEFENSE

Office of the Secretary

Interim Range Rule Risk Methodology (IR3M), Supporting DOD's Range Rule

AGENCY: Department of Defense (DoD).

ACTION: Notice of availability.

SUMMARY: The DoD is making available the Interim Range Rule Risk Methodology (IR3M). DoD has developed this guidance document to provide a consistent methodology to assess and manage risks posed by military munitions, unexploded ordnance, and other constituents. In developing this methodology, DOD consulted with U.S. Environmental Protection Agency and various federal, state, tribal, and public interest group stakeholders. The IR3M assists decisionmakers in the selection of appropriate response actions on closed, transferred, and transferring military ranges covered under DoD's rule regarding Closed, Transferred, and Transferring Ranges Containing Military Munitions (also known as DoD Range Rule) to be codified at 32 CFR 178. The IR3M guidance document is available on the World Wide Web at: http://www.acq.osd.mil/ens/.

ADDRESSES: Copies of the IR3M may also be requested from, and comments may be submitted to: Interim R3M Comments (MSR-3-3), c/o Science Applications International Corporation, 11251 Roger Bacon Drive, Reston, VA 20190.

FOR FURTHER INFORMATION CONTACT: R3M Hotline at (888) 541-1081, e-mail: r3m@aec.apgea.army.mil, or telephone Scott Hill at (410) 436-7085.

SUPPLEMENTARY INFORMATION: The DoD proposed the DoD Range Rule to identify a process for evaluating responses to risks from military munitions, unexploded ordnance, and associated materials on closed, transferred, and transferring (CTT) military ranges (62 FR 50795, September 26, 1997). The DoD Range Rule requires that response actions fully consider explosives safety hazards, are protective of human health and the environment, and address risks based upon reasonably anticipated future land use. The DoD Range Rule contains a process that is not inconsistent with the Comprehensive Environmental Response, Compensation, and Liability Act (CERCLA). It is tailored to the special risks posed by military munitions at the ranges that are no longer used or needed by the military for future training.

In the Proposed DoD Range Rule, DOD proposed to develop, in consultation with U.S. Environmental Protection Agency (EPA) and other stakeholders, a risk assessment model/protocol to address risks from military munitions, unexploded ordnance (UXO), and other constituents. DOD proposed to incorporate, to the maximum extent possible, the EPA's procedures to assess acute and chronic risks posed by releases at sites regulated under CERCLA and the Resource Conservation and Recovery Act (RCRA). The process described in this Interim Range Rule Risk Methodology (IR3M), is intended to satisfy, in part, the need for tools, models, and protocols to support decisionmaking under the DoD Range Rule.

In developing the IR3M, DOD established a Partnering Initiative to solicit input from a wide range of interested stakeholders. The Partnering Initiative includes representatives from DOD, EPA, federal land managers, state regulatory authorities, American Indian tribal governments, and several other organizations. The IR3M supports the process set forth in the DoD Range Rule and meets the following goals for the process, as established by the Partnering Initiative:

□ Protect human health and the environment

□ Minimize explosive safety risks to all personnel, including response personnel

□ Emphasize risk reduction

□ Identify threats from unexploded ordnance (UXO), explosives, and other constituents

□ Focus on informed risk management decision-making, adequately supported with appropriate data

□ Incorporate the National Contingency Plan's (NCP) nine criteria for evaluating response alternatives and consider reasonably anticipated future land uses

□ Promote Federal and State regulator, tribal, and other stakeholders' involvement in order to achieve the greatest possible level of mutual understanding

□ Consider the limitations of existing technology and promote the development and application of new technologies

□ Complete response when the site-specific response objectives identified within the risk-based decision document have been attained

□ During the recurring review phase of a response action, reevaluate response actions to determine if the risk assumptions were appropriate and whether conditions remain protective. Evaluate any finding of technical impracticality against new technology to determine if risk reduction can be attained, and/or performance can be maintained at significantly reduced costs

□ Continue to respond appropriately to safety and environmental contamination problems discovered following administrative close-out

□ Define risk attributed to military munitions as a function of exposure, detonation, and potential consequences of detonation, although the risk may not always be quantifiable

□ Ensure process continuously improved upon by drawing upon lessons learned in related environmental programs

To achieve these goals, the Partnering Initiative split the R3M development into two parts—an Interim R3M and a Final R3M. The Interim R3M focuses on risk reduction and is aimed at the assessment and development of response actions at the ranges subject to the DoD Range Rule. The Interim R3M identifies a process, tools, models, and protocols that decisionmakers may use to manage, assess, and communicate risks associated with military munitions, UXO, and other constituents at closed, transferred, and transferring ranges. This process resembles the risk-based decisionmaking process under CERCLA and the National Contingency Plan (NCP).

The Final R3M will refine the procedures in the Interim R3M and will contain the additional elements necessary to complete the range response process. Specifically, the Final R3M will address Recurring Reviews and Administrative Close-out, two of the response phases spelled out in the DoD Range Rule, which are not fully developed in the Interim R3M.

Dated: June 2, 2000.
Patricia L. Toppings,
Alternate OSD Federal Register Liaison Officer, Department of Defense.

[FR Doc. 00-14418 Filed 6-7-00; 8:45 am]

BILLING CODE 5001-10-M